ENVIRONMENTAL PROTECTION AGENCY

40 CFR Part 52

[EPA-R06-OAR-2005-TX-0027; FRL-8212-3]

Approval and Promulgation of Air Quality Implementation Plans; Texas; Revisions to Chapter 117, Emission Inventories, Transportation Conformity Budgets, and 5% Increment of Progress Plan for the Dallas/Fort Worth 8-Hour Ozone Nonattainment Area

AGENCY: Environmental Protection Agency (EPA).

ACTION: Proposed rule.

SUMMARY: The EPA is proposing to approve revisions to the State Implementation Plan (SIP) submitted by the state of Texas for the Dallas/Fort Worth (DFW) nonattainment area as meeting 1-hour ozone serious area requirements. EPA is proposing to approve the 5% Increment of Progress (IOP) emission reduction plan, the 2002 base year inventory, and a 2007 motor vehicle emission budget for the DFW 8-hour ozone nonattainment area. EPA is also proposing to approve a Federal consent decree concerning the Alcoa Rockdale plant in Milam County; energy efficiency measures implemented within the DFW 8-hour ozone nonattainment area; and revisions to 30 TAC, Chapter 117, Control of Air Pollution From Nitrogen Compounds, concerning stationary reciprocating internal combustion engines operating within the DFW 8-hour ozone nonattainment area. These revisions will allow the State of Texas to fulfill remaining obligations under the 1-hour ozone standard in the DFW nonattainment area. These actions are being taken in accordance with section 110 and part D of the Clean Air Act (the Act) and EPA's regulations. The intended effect of this action is to approve revisions submitted which satisfy outstanding 1-hour ozone obligations for the DFW area and result in emission reductions within 3 years of the DFW area's nonattainment designation under the 8-hour ozone standard.

DATES: Comments must be received on or September 21, 2006.

ADDRESSES: Submit your comments, identified by Docket No. EPA-R06-OAR-2005-TX-0027, by one of the following methods:

Federal eRulemaking Portal: http://www.regulations.gov. Follow the on-line instructions for submitting comments.

U.S. EPA Region 6 “Contact Us” Web site: http://epa.gov/region6/r6coment.htm. Please click on “6PD” (Multimedia) and select “Air” before submitting comments.

E-mail: Mr Thomas Diggs at diggs.thomas@epa.gov. Please also send a copy by e-mail to the person listed in the FOR FURTHER INFORMATION CONTACT section below.

Fax: Mr. Thomas Diggs, Chief, Air Planning Section (6PD-L), at fax number 214-665-7263.

Mail: Mr. Thomas Diggs, Chief, Air Planning Section (6PD-L), Environmental Protection Agency, 1445 Ross Avenue, Suite 1200, Dallas, Texas 75202-2733.

Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2005-TX-0027. EPA's policy is that all comments received will be included in the public docket without change and may be made available online at ­ http://www.regulations.gov, including any personal information provided, unless the comment includes information claimed to be Confidential Business Information (CBI) or other information the disclosure of which is restricted by statute. Do not submit information through http://www.regulations.gov or e-mail that you consider to be CBI or otherwise protected from disclosure. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

Texas Commission on Environmental Quality, Office of Air Quality, 12124 Park 35 Circle, Austin, Texas 78753.

FOR FURTHER INFORMATION CONTACT: Inquiries regarding Chapter 117 should be directed to Alan Shar, Air Planning Section (6PD-L), Environmental Protection Agency, Region 6, 1445 Ross Avenue, Suite 700, Dallas, Texas 75202-2733, telephone (214) 665-6691; fax number 214-665-7263; e-mail address shar.alan@epa.gov. Inquiries on all other aspects of this rulemaking should be directed to Carrie Paige, Air Planning Section (6PD-L), Environmental Protection Agency, Region 6, 1445 Ross Avenue, Suite 700, Dallas, Texas 75202-2733, telephone (214) 665-6521; fax number 214-665-7263; e-mail address paige.carrie@epa.gov.

SUPPLEMENTARY INFORMATION: Throughout this document, wherever “we,” “us,” or “our” is used, we mean the EPA.

Outline

I. What Actions Are We Proposing?

II. What Is the Background for These Actions?

III. What Is Ozone?

IV. What Are the 5% Increment of Progress Plan Requirements?

A. 2002 Emissions Inventory

1. Point Sources

2. Area Sources

3. Onroad Mobile Sources

4. Nonroad Mobile Sources

B. 2007 Emissions Projections

1. What Are the Motor Vehicle Emissions Budgets?

2. What NOX Control Measures did the State Submit?

a. The Texas Emissions Reduction Plan (TERP)

b. Energy Efficiency

c. Alcoa—Milam County

d. Stationary Reciprocating Internal Combustion Engines

3. What VOC Control Measures did the State Submit?

a. Statewide Portable Fuel Container Rule

b. Surface Coating Operations

c. Stage I Vapor Recovery

C. Calculation of the 5% Reduction

V. Proposed Action

VI. Statutory and Executive Order Reviews

I. What Actions Are We Proposing?

Today we are proposing to approve revisions to the SIP submitted by the state of Texas for the DFW nonattainment area as meeting 1-hour ozone serious area requirements. We are proposing to approve the 5% IOP plan for the nine counties that comprise the DFW 8-hour ozone nonattainment area. As an integral part of the 5% IOP plan, we are also proposing to approve the 2002 base year emissions inventory (EI) and the 2007 motor vehicle emissions budget (MVEB). Before approving the 5% IOP plan, we must approve all of the control measures relied upon in the 5% IOP plan. The majority of the control measures have already been approved in other Federal Register documents. We are proposing to approve three control measures which support the 5% IOP plan in today's action: A Federal consent decree concerning an Alcoa plant in Rockdale, Milam County; energy efficiency measures implemented within the DFW 8-hour ozone nonattainment area; and revisions to 30 TAC, Chapter 117, Control of Air Pollution From Nitrogen Compounds, concerning stationary reciprocating internal combustion engines operating within the DFW 8-hour ozone nonattainment area. We previously proposed to approve that Reasonably Available Control Technology (RACT) is in place for all major sources of volatile organic compounds (VOCs) in the DFW 1-hour ozone nonattainment area (66 FR 4756). Although we are not reopening the comment period on RACT, we intend to finalize our proposed approval at the same time we finalize this proposal. We are proposing to approve these revisions under section 110 and part D of the Act and EPA's regulations.

II. What Is the Background for These Actions?

The EPA published the 8-hour ozone designations and the first phase governing implementation of the 8-hour ozone standard (phase I rule) in the Federal Register (FR) on April 30, 2004 (69 FR 23858 and 69 FR 23951, respectively). The DFW area was designated as nonattainment for the 8-hour ozone standard and comprises nine counties: Collin, Dallas, Denton, and Tarrant counties (these four constitute the 1-hour ozone nonattainment area, hereinafter referred to as the four core counties), and Ellis, Johnson, Kaufman, Parker and Rockwall counties. At the time of designation however, the four core counties remained in nonattainment for the 1-hour standard and had two outstanding 1-hour ozone obligations: (1) The area did not have an approved 1-hour ozone attainment demonstration; and (2) the area did not have approved RACT requirements for major sources of VOC emissions (VOC RACT).

The phase I rule revoked the 1-hour ozone standard (see 69 FR 23951). The phase I rule further provided three options for areas that had not met the 1-hour ozone attainment demonstration requirement: (1) Submit a 1-hour attainment demonstration no later than 1 year after designation; (2) Submit a Reasonable Further Progress (RFP) plan for the 8-hour National Ambient Air Quality Standards (NAAQS), no later than 1 year following designations for the 8-hour NAAQS, providing a 5% increment of emissions reduction from the area's 2002 EI; or (3) Submit an early 8-hour ozone attainment demonstration SIP that ensures that the first segment of RFP is achieved early (See 40 CFR 51.905(a)(ii)). Texas selected option 2, to submit the RFP plan providing a 5% increment of emissions reduction from the area's 2002 EI. This increment of emissions reduction is called the 5% IOP plan. Revisions in this rulemaking enable the DFW area to meet the 5% IOP, which fulfills the 1-hour ozone attainment demonstration obligation.

The phase I rule also provides that 1-hour ozone nonattainment areas are required to adopt and implement “applicable requirements” according to the area's classification under the 1-hour ozone standard for anti-backsliding purposes (see 40 CFR 51.905(a)(i)). On May 26, 2005, we determined that an area's 1-hour designation and classification as of June 15, 2004 would dictate what 1-hour obligations remain as “applicable requirements” under the phase I rule (70 FR 30592). The DFW 1-hour nonattainment area was still classified as serious on June 15, 2004, so the 1-hour ozone standard requirements applicable to the four core counties are those that apply to nonattainment areas classified as serious. The only outstanding “applicable requirement” for the four core counties is the VOC RACT. We noted above that we proposed to approve RACT for all major sources of VOCs in the 1-hour DFW nonattainment area on November 18, 2001 (66 FR 4756) and received no comments. Although we are not reopening the comment period on VOC RACT, we intend to finalize that proposed approval in the same rulemaking that we finalize this proposal.

The DFW area has satisfied all other serious area applicable requirements under the 1-hour ozone standard. See the area's Clean Fuels Fleet Program (February 7, 2001 at 66 FR 9203); the area's post 1996 Rate of Progress (ROP) plan and associated MVEBs (March 28, 2005 at 70 FR 15592); and the area's 15% ROP plan and associated MVEBs (April 12, 2005 at 70 FR 18993). For a complete list, see the Texas SIP map at http://www.epa.gov/earth1r6/6pd/air/sip/sip.htm.

III. What Is Ozone?

Ozone is a gas composed of three oxygen atoms. At ground level, it is created by a chemical reaction between nitrogen oxides (NOX) and VOCs in the presence of sunlight. Ozone and NOX are two of six common pollutants, also known as criteria pollutants, for which EPA has set NAAQS. Motor vehicle exhaust and industrial emissions, gasoline vapors, and chemical solvents as well as natural sources emit NOX and VOCs, help to form ozone. Sunlight and hot weather cause ground-level ozone to form in harmful concentrations in the air. As a result, ozone is known as a summertime air pollutant. Many urban areas tend to have high levels of ground-level ozone, but rural areas are also subject to increased ozone levels because wind carries ozone and its precursors hundreds of miles from their sources.

Repeated exposure to ozone pollution may cause permanent lung damage. Even at very low levels, ground-level ozone triggers a variety of health problems including aggravated asthma, reduced lung capacity, and increased susceptibility to respiratory illnesses like pneumonia and bronchitis. It can also have detrimental effects on plants and ecosystems.

IV. What Are the 5% Increment of Progress Plan Requirements?

EPA issued a guidance memorandum on August 18, 2004 ¹ that outlines the criteria for 5% IOP plans. In brief summary, the guidance states that the reductions should be based on a 2002 EI, does not allow credit from Federal measures or measures in the SIP as of 2002, provides that the reductions occur by 2007, and allows use of NOX, VOCs, or some combination of both pollutants, to meet the 5% reduction. The steps involved in determining the emissions needed to meet the 5% reduction are the establishment of the 2002 baseline EI, calculation of the 5% reduction, and projection of the 2007 EI. We will present the 2002 and 2007 inventories, with a discussion of measures that will contribute to emission reductions in the area, and conclude by demonstrating the 5% reduction.

¹ “Guidance on 5% Increment of Progress” (40 CFR 51.905(a)(1)(ii)), August 18, 2004; from Lydia Wegman, Director, OAQPS, to EPA Regional Air Directors.

A. 2002 Emissions Inventory

The Clean Air Act Amendments of 1990 has the requirement that EIs be prepared for ozone nonattainment areas. Because ozone is photochemically produced in the atmosphere when VOCs are mixed with NOX in the presence of sunlight, ozone EIs focus on these precursor pollutants. The EI identifies the source types present in an area, the amount of each pollutant emitted, and the types of processes and control devices employed at each plant or source category. The Act requires the inventories to be actual emissions. The 2002 EI will provide a baseline emission level for calculating reduction targets and the control strategies for achieving the required emission reductions. The inventory of emissions of VOC and NOX is summarized from the estimates developed for four general categories of emissions sources: Point, area, onroad mobile, and nonroad mobile.

1. Point Sources

Major point sources for inventory reporting in nonattainment areas are defined as industrial, commercial, or institutional sources that emit actual levels of criteria pollutants at or above 10 tons per year (tpy) of VOC, 25 tpy of NOX, or 100 tpy of other criteria pollutants.

The Texas Commission on Environmental Quality (TCEQ) collects data from sources identified as having triggered the levels of emissions indicated above. Data submitted is quality assured and entered into the State of Texas Air Reporting System. For more details, refer to the Technical Support Document (TSD).

A list of emissions by facility for all nine counties in the DFW nonattainment area is provided in Attachment 2 of the TSD. The State separately accounts for NOX emissions from the Alcoa facility, as it lies outside the DFW nonattainment area. The 5% guidance allows a nonattainment area to include VOC sources within 100 kilometers (km) and NOX sources within 200 km of the nonattainment area in calculations of IOP reductions. The Alcoa facility is 120 miles from DFW, thus only the NOX emissions are allowed. The NOX emissions for the entire facility are added to the DFW area's EI, as required by the guidance; these emissions are 23.17 tons per day (tpd). The 2002 point source inventory for NOX is 79.31 tpd and 28.31 tpd for VOCs; with Alcoa's emissions, the point source inventory for NOX is adjusted to 102.48 tpd.

2. Area Sources

Area sources have emissions below the point source reporting levels and are too numerous and/or too small to identify individually. Area sources include commercial, small-scale industrial, and residential categories that use materials or processes that generate emissions. Area sources are categorized by hydrocarbon evaporative emissions or fuel combustion emissions; examples include printing operations, house paints, gasoline service station underground tank filling and vehicle refueling, outdoor burning, structural fires, and wildfires.

Emissions for area sources are estimated as county-wide totals. These emissions, with some exceptions, may be calculated by an established, EPA approved, emission factor. Actual activity data is used when available, e.g., gallons of gasoline sold in a county, number of wildfire acres burned, etc. When activity data is unavailable, surrogates such as county population and employment data by industry type are used. The methodology is provided in Appendix A of the submittal. A detailed listing of emissions by area source type for all nine counties in the DFW area is provided in Attachment 3 of the TSD. The State separately accounts for VOC emissions from the gas can rule (see paragraph B(3) below—portable fuel containers) within a 100 km radius outside the DFW area. The 2002 area source inventory, adjusted to include 4.52 tpd VOC emissions from the gas can rule, is 38.03 tpd of NOX and 208.92 tpd for VOCs.

3. Onroad Mobile Sources

Onroad mobile sources are automobiles, trucks, motorcycles, and other motor vehicles traveling on roadways. Combustion related emissions are estimated for vehicle engine exhaust, and evaporative hydrocarbon emissions are estimated for the fuel tank and other evaporative leak sources on the vehicle. The 2002 onroad mobile source EI was prepared by the North Central Texas Council of Governments (NCTCOG) and used the newest EPA onroad emission factor model, MOBILE6.2. Emission factors were applied to vehicle activity using the Texas Mobile Source Emission Software. Vehicle activity was generated using the DFW Regional Travel Model. Emissions were summarized in 24 one-hour periods and for a daily total for all counties identified in the analysis. Additional details are included in the TSD. The 2002 onroad mobile source inventory for NOX is 345.44 tpd and 156.34 tpd for VOCs.

4. Nonroad Mobile Sources

Nonroad mobile sources are aircraft, railroad locomotives, recreational vehicles and boats, and a broad range of equipment, from 600-horsepower engines in the construction equipment class to one-horsepower string trimmers in the lawn and garden class. The EPA NONROAD model is used to calculate emissions for all nonroad mobile sources except aircraft, locomotives, and commercial marine vessels. This model generates emissions for equipment in the following classes: Agricultural, Commercial, Construction, Industrial/Oilfield, Lawn and Garden, Logging, and Railway Maintenance.

Emissions from commercial and military aircraft are calculated using the Federal Aviation Administration's Emissions and Dispersion Modeling System model, which uses actual recorded landing/takeoff (LTO) data and aircraft types to generate emissions. Smaller aircraft emissions are calculated using EPA emission factors and applicable LTO data. Emissions from ground support equipment at commercial airports are based on a recent survey in the DFW area.

Locomotive emissions are based on fuel use and track mileage and individual railroad lines were surveyed for actual data. The 2002 nonroad mobile source inventory is 136.24 tpd for NOX and 70.08 tpd for VOCs. See the TSD for more detailed information.

Although EPA's 5% guidance allows states to use EPA's draft 2002 National Emissions Inventory (NEI) for the 2002 baseline inventory, the TCEQ submitted their own 2002 EI for point, area, onroad mobile, and nonroad mobile sources for all nine counties in the DFW nonattainment area. The inventory is the peak ozone season daily average of actual emissions for each source and includes more accurate activity data than that available in EPA's NEI. The TCEQ's inventory of ozone precursors for all nine counties in the DFW nonattainment area is shown in Table 1; the point and area emissions are unadjusted for emissions outside the nonattainment area. This unadjusted EI is comprised of actual emissions within the nonattainment area, as required by the Act, which will provide the baseline emission level for calculating reduction targets and the control strategies for achieving the required emission reductions. We are proposing to approve the 2002 baseline EI.

Table 1.—2002 Anthropogenic Emissions for the DFW 9-County Nonattainment Area
Major source category | 2002 VOC emissions (tpd) | 2002 NOX emissions (tpd)
Point | 28.31 | 79.31
Area | 204.42 | 38.03
Onroad Mobile | 156.34 | 345.44
Nonroad Mobile | 70.08 | 136.24
Total | 459.15 | 599.02

B. 2007 Emissions Projections

The future year or 2007 inventory reflects growth and controls from measures already in the SIP or expected to occur due to Federal measures; these emissions are presented in Table 2, in contrast with the 2002 emission inventories.

Texas developed the 2007 point source EI by multiplying the 2002 baseline EI by growth factors that represent industrial expansion through 2007. This includes all of the NOX and VOC controls already in place, per State rules that require reductions between 2002 and 2007. The 2007 point source inventory is projected to be 83.52 tpd NOX and 30.42 tpd VOC. A detailed discussion of the future point source inventory is provided in the TSD.

The 2007 EI for area sources was projected using EPA's Economic Growth Analysis System (EGAS) growth factors, which contain individual growth factors for each category and forecasting year. This is the EPA standard and accepted method for developing future year EIs. The projected 2007 area source inventory is 39.64 tpd NOX and 215.91 tpd VOC.

The MOBILE6.2 model was used to estimate onroad emission factors for 2007. This model incorporates local information on fleet mix and activity data, and Federal, State and local measures that will be implemented by 2007. The projected 2007 onroad mobile inventory is 206.72 tpd NOX and 104.14 tpd VOC.

The 2007 EI for nonroad mobile sources was developed using the NONROAD model. Projected LTO data was used to develop the 2007 aircraft and ground support EIs, and railroad activity for 2007 was estimated using previous year surveys and data from local railroad lines. The projected 2007 nonroad mobile source inventory is 120.83 tpd NOX and 54.58 tpd VOC.

Table 2.—2002 and 2007 VOC and NOX Emissions by County and Major Category (in tpd)
Major source category | 2002 VOC emissions | 2007 VOC emissions | 2002 NOX emissions | 2007 NOX emissions
Point | 28.31 | 30.42 | 79.31 | 83.52
Area | 204.42 | 215.91 | 38.03 | 39.64
Onroad Mobile | 156.34 | 104.14 | 345.44 | 206.72
Nonroad Mobile | 70.08 | 54.58 | 136.24 | 120.83
Total | 459.15 | 405.05 | 599.02 | 450.71

1. What Are the Motor Vehicle Emissions Budgets?

The motor vehicle emission budget (MVEB) establishes a ceiling for emissions from onroad mobile sources. The onroad EI in the SIP sets the MVEB, which is used to meet the EPA's transportation conformity requirements, found at 40 CFR part 51, subpart T and part 93, subpart A. EPA's conformity rules require that transportation plans and related projects result in emissions that do not exceed the MVEB established in the SIP.

The MVEBs for DFW were established by subtracting onroad emission reductions from the onroad mobile source EI for 2007. The Texas Emission Reduction Plan (TERP) is a NOX emission reduction strategy which can be applied toward the 5% IOP. The TERP assumes reductions of 22.2 tpd by 2007 and allocates 33.1% of the reductions to onroad mobile and 66.9% to nonroad mobile. The TCEQ has conservatively estimated TERP to provide onroad mobile NOX reductions of 5.4 tpd for the DFW area by June 15, 2007. The TERP applies specifically to NOX reductions and information on VOCs is not available. The MVEBs for DFW were found adequate for use in transportation conformity on June 01, 2005 (70 FR 31441). Table 3 documents the MVEBs that have been established by this SIP revision. EPA is proposing to approve these MVEBs and, upon final approval, all future transportation improvement programs, projects and plans for the DFW area will need to show conformity to the budgets in this plan; previous budgets approved or found adequate are not applicable.

Table 3.—2007 DFW Motor Vehicle Emissions Budgets
Criteria used to establish the 2007 MVEB | VOC (tpd) | NOX (tpd)
2007 onroad mobile source inventory, unadjusted | 104.14 | 206.72
TERP credits (allocation for onroad mobile) | 0 | −5.4
2007 MVEB | 104.14 | 201.32

2. What NOX Control Measures Did the State Submit?

a. Texas Emissions Reduction Plan (TERP)

The TERP, discussed briefly above, was established by the Texas Legislature with the enactment of Senate Bill 5 (SB5). The concept of this economic incentive program was approved into the Texas SIP on November 14, 2001 (66 FR 57159). State rules that govern TCEQ's administration of the TERP were approved into the SIP August 19, 2005 (70 FR 48647).

The TERP primarily addresses diesel emission reductions, while a small percentage of the program is allocated to energy efficiency. The TERP analyses for this program are found in the SIP narrative and a TCEQ Interoffice Memorandum dated August 16, 2004. Projected credits are based on cost per ton of previous projects. Considering diesel emission reduction projects recently funded and the approach established for allocating future TERP funds, we agree that TERP funding should be sufficient to achieve NOX reductions of 22.2 tpd in the DFW area by 2007. Additional detail is provided in the TSD.

b. Energy Efficiency

The Texas Legislature enhanced the use of Energy Efficiency/Renewable Energy (EE/RE) programs for meeting TERP goals by requiring TCEQ to promote the use of energy efficiency as a way of meeting the NAAQS and to develop a method for calculating emissions reductions from energy efficiency. To achieve energy savings in new construction, SB 5 mandated statewide adoption of the International Residential Code (IRC) and the International Energy Conservation Code (IECC) for residential, commercial and industrial buildings, through new building code requirements (Texas Health and Safety Code, Chapter 388—Texas Building Energy Performance Standards), which are enforced by local jurisdictions. The emissions reductions relied upon in this 5% IOP plan occurred in 2003 because of the energy savings achieved by power plants and newly-constructed residential buildings.

These NOX reductions have already been achieved. To calculate the SIP credit for these NOX reductions, a method was developed by the Energy Systems Laboratory (ESL) of Texas A&M University, with assistance from EPA's Office of Atmospheric Programs, the TCEQ, and the Electric Reliability Council of Texas (ERCOT). We are proposing to find that the methodology for quantifying the completed emissions reductions for credit in the SIP is reasonable. See the TSD for additional information. The energy savings achieved provided NOX reductions at each power plant within the ERCOT region (the ERCOT serves about 85% of Texas, including the DFW nonattainment area) and reductions of natural gas within each county, statewide. The NOX reductions were due to EE measures in new construction for single and multi-family residences. The reductions in natural gas were due to the elimination of pilot lights in furnaces.

The TCEQ did not project 2007 NOX reductions from EE measures in the DFW nonattainment area. Rather, the State, using the above-described methodology, quantified the EE reductions that have already occurred by using several spreadsheet programs that conservatively calculated energy savings from the electricity and natural gas reductions for residential, commercial and industrial buildings. The measures were completed and the reductions occurred by 2003. These reductions have not been relied upon in another RFP/ROP plan for Texas and will not receive credit in another SIP. Therefore, the reductions are surplus. These measures have been implemented in residential construction, which has a lifetime beyond the term for which this credit is granted (2007) and are therefore permanent.

As indicated above, the NOX reductions have been achieved and were calculated to be 0.72 tpd in the DFW area. The total amount of NOX reductions calculated for the RFP, as shown in Table 8 below, is 27.59 tpd. The SIP credit for the emissions already achieved (0.72 tpd) is 2.6% of this total and therefore meets the 3% limit. Additional details are provided in the TSD.

EPA's approval of these SIP credits will not interfere with any applicable requirement concerning attainment or any other applicable requirement of the Act and the credits meet and comply with section 110(l) of the Act. We are proposing to approve the NOX emissions reductions achieved by the EE measures as credit in the SIP for 0.72 tpd because they contribute to attainment of the 8-hour ozone NAAQS, are permanent and surplus, and are relied upon in the 5% IOP plan. We propose to approve these NOX emission reductions of 0.72 tpd under sections 110 and part D of the Act.

c. Alcoa—Milam County

On April 9, 2003, a Federal Consent Decree was signed with Alcoa that required the company to reduce NOX emissions from 3 boilers located at its facility in Milam County. These boilers are fired by locally mined lignite coal and provide power for the aluminum smelting operations. The facility is located nearly 120 miles outside of the DFW nonattainment area, which is within the 200 km radius for NOX emissions, but beyond the 100 km radius for VOCs. Texas chose to include emission reductions for just one of the boilers. Although Texas submitted NOX reductions of 3.9 tpd, we calculate 2.8 tpd reduction in NOX emissions that would be creditable toward the 5% IOP plan. Today we are proposing to approve the submission of the Federal consent decree concerning the Alcoa Rockdale, Milam County facility, as described in the SIP Narrative by the TCEQ, into the Texas SIP as a part of the 5% IOP plan for the purposes of establishing the quantifying methodology, the implementation, and making SIP-enforceable Alcoa's choice, as defined in the consent decree, to shut down one of the three boilers and replace one of the two remaining boilers with a circulating fluidized bed (CFB) boiler by June 15, 2007 as described in the SIP Narrative by the TCEQ, to ultimately achieve SIP credit for NOX emissions reductions of 2.8 tpd.

To receive credit for reductions, the total NOX emissions must be added to the inventory for the base year. Texas therefore added 23.17 tpd of NOX emissions to the 2002 inventory for Alcoa and took credit for NOX reductions of 3.9 tpd, but did not take credit for VOC reductions. These NOX reductions are also required to be permanent, enforceable, quantifiable and surplus.

The terms of the Federal consent decree are legally enforceable by EPA. Texas issued Permit No. 48437 to Alcoa that incorporates the terms of the consent decree, so the reductions are also enforceable by TCEQ. The consent decree and State Permit contain emission limits upon which to quantify the emission reductions. Texas included NOX emission reductions of 3.9 tpd by June 15, 2007.

The terms of the consent decree are also permanent. The consent decree remains in place until either the existing boilers achieve and maintain certain emission limitations for 24 months, the replacement boilers achieve and maintain certain emission limitations for 24 months, or the existing boilers have been permanently shut down. Additionally, the consent decree terminates only after all of the requirements of the consent decree, including those mentioned above, are incorporated into the Title V operating permit for the Rockdale facility.

The NOX reductions are surplus to the State's Regional Ozone plan, relied upon in all of the Texas ozone nonattainment areas but for the El Paso area, and which required a 50% reduction to utility NOX emissions in the selected East and Central Texas counties, a 30% NOX emission reduction to non-utility grandfathered sources in the selected East and Central Texas counties, NOX emissions reductions at Alcoa, Milam County and Eastman Chemical Company near Longview, Texas through Agreed Orders, and NOX emissions reductions through a state-wide water heater rule. EPA approved the Regional Ozone SIP on October 26, 2000, at 65 FR 64148. Some of the NOX reductions obtained through compliance with the Federal consent decree are not considered surplus and are not creditable. Alcoa however, agreed in the Federal consent decree to go beyond all applicable Federal requirements. At the time of the occurring violations addressed in the Federal consent decree, Alcoa as a lignite-burning facility would have been limited to 0.6 lbs/million Btu. A review of the Agreed Order approved by EPA as part of the Regional SIP allowed the facility 0.8 lbs/million Btu by 2002. The difference between 0.8 and 0.6 lbs/million Btu would not be creditable. Using a conservative assumption that Alcoa operated at 0.8 lbs/million Btu in 2002 and recognizing that Alcoa must reduce the operating rate to 0.1 lbs/million Btu, we calculated that 71% of the reductions reported by Texas would be available for credit (71% of 3.9 tpd). Therefore, EPA proposes to approve 2.8 tpd as creditable toward the 5% IOP. Calculations and additional detail are provided in the TSD.

Approving the Alcoa Federal consent decree into the DFW SIP for establishing and making enforceable a 2.8 tpd reduction in NOX emissions by shutting down one of the three boilers and replacing one of the two remaining boilers with a CFB boiler before June 15, 2007, improves the DFW SIP as it requires the affected source to reduce its NOX emissions beyond the level of compliance otherwise required by law and to incorporate those requirements into a Title V operating permit. We are proposing to approve these revisions to the Texas SIP because they will contribute to attainment of the 8-hour ozone NAAQS, because they meet the EPA rules and are consistent with EPA guidance, and were one of the control measures relied upon in the 5% IOP plan. As such, EPA's approval of this revision will not interfere with any applicable requirement concerning attainment or any other applicable requirement of the Act and it meets and complies with section 110(l) of the Act. We propose to approve these rules under section 110 and part D of the Act.

d. Stationary Reciprocating Internal Combustion Engines

On May 13, 2005 the TCEQ Chairman submitted to us rule revisions to 30 TAC, Chapter 117, Control of Air Pollution From Nitrogen Compounds, concerning stationary reciprocating internal combustion (IC) engines operating within the DFW eight-hour ozone nonattainment area (the Chapter 117 SIP submittal). The Chapter 117 SIP submittal primarily addresses NOX emissions from IC engines with a horsepower rating greater than or equal to 300 hp in the nine Texas Counties of Collin, Dallas, Denton, Ellis, Johnson, Kaufman, Parker, Rockwall, and Tarrant. The affected engines under the Chapter 117 SIP submittal are lean burn, rich burn, and dual-fuel (gas and liquid) fired lean burn engines. The rule revisions include more stringent NOX emissions limitations on lean burn and dual-fuel fired lean burn IC engines operating in Collin, Dallas, Denton, and Tarrant Counties and apply the limitations to those engines in Ellis, Johnson, Kaufman, Parker, and Rockwall Counties. They also impose new NOX emissions limitations on gas-fired rich burn IC engines in all nine counties of the DFW 8-hour ozone nonattainment area. See attachment 5 of the TSD for more information. The Chapter 117 SIP submittal should result in NOX reductions of 1.87 tpd by 2007 for the DFW eight-hour ozone nonattainment area. Today, we are proposing to approve the Chapter 117 SIP submittal as part of the 5% IOP plan.

The current Texas SIP contains no Federally-approved requirements for controlling NOX emissions from gas-fired rich burn, and gas-fired lean burn IC engines operating within Ellis, Johnson, Kaufman, Parker, and Rockwall counties. By approving the Chapter 117 SIP submittal, we will be improving the Texas SIP for enforcement and ozone attainment purposes. As such, EPA's approval of this revision will not interfere with any applicable requirement concerning attainment or any other applicable requirement of the Act and it meets and complies with section 110(l) of the Act.

On September 1, 2000 (65 FR 53172), EPA approved NOX emission specifications for IC engines as a part of the ozone control measures for the DFW one-hour ozone nonattainment area that included the four core counties—Collin, Dallas, Denton, and Tarrant. Table 4 contains a summary of the 65 FR 53172 rulemaking for IC engines operating in the four core counties.

Table 4.—Affected Sources, NOX Emission Specifications, and Additional Information
Source | NOX emission specifications | Additional information
Internal Combustion Engines | 3.0 gram/hp-hr | Natural gas, lean burn, stationary, capacity ≥300 hp in DFW. Also a 3.0 gram/hp-hr limit for CO.

On March 16, 2001 (66 FR 15195), EPA approved NOX emission specifications for IC engines as part of the ozone control measures for the DFW one-hour ozone nonattainment area that included the four core counties; Table 5 is a summary of the 66 FR 15195 rulemaking for IC engines operating in the four core counties.

Table 5.—Affected Sources, NOX Emission Specification, and Additional Information
Source | NOX emission specifications | Additional information
Internal Combustion Engines | 2.0 gram/hp-hr | Gas-fired, dual-fuel lean burn (Collin, Dallas, Denton and Tarrant Counties), capacity ≥ 300 hp, also 3.0 gram/hp-hr for CO.

The area in Tables 4 and 5 refers to the four core counties. Table 6 contains a summary of NOX control requirements for IC engines operating in the DFW eight-hour ozone nonattainment area under the Chapter 117 submittal being proposed for approval today.

Table 6.—Affected Sources, NOX Emission Specifications, and Additional Information
Source | NOX limit | Additional information
Internal Combustion Engines | 2.0 gram/hp-hr | Gas-fired lean burn (Collin, Dallas, Denton, Ellis, Johnson, Kaufman, Parker, Rockwall, and Tarrant Counties), capacity ≥ 300 hp, also 3.0 gram/hp-hr for CO.
Internal Combustion Engines | 2.0 gram/hp-hr | Gas-fired rich burn in operation before January 2000 (Collin, Dallas, Denton, Ellis, Johnson, Kaufman, Parker, Rockwall and Tarrant Counties), capacity ≥ 300 hp, also 3.0 gram/hp-hr for CO.
Internal Combustion Engines | 0.5 gram/hp-hr | Gas-fired rich burn in operation after January 2000 (Collin, Dallas, Denton, Ellis, Johnson, Kaufman, Parker, Rockwall and Tarrant Counties), capacity ≥ 300 hp, also 3.0 gram/hp-hr for CO.

As stated earlier, the Chapter 117 SIP submittal should result in NOX reductions of 1.87 tpd, and should assist in bringing the DFW area into attainment with the 8-hour ozone NAAQS.

The Chapter 117 SIP submittal requires the affected sources to reduce their NOX emissions. We are proposing to approve these revisions to the Texas SIP because they will contribute toward attainment of the 8-hour ozone NAAQS and were one of the control measures relied upon in the DFW 5% IOP Plan. This revision adds requirements for NOX emission limitations for rich burn IC engines in all nine counties. Additionally, the revisions impose a more stringent NOX emission limitation on lean burn and dual fired lean burn IC engines in the four core counties and extend the limitations to those engines in the five adjacent counties. We are proposing to approve these rules under section 110 and part D of the Act.

3. What VOC Control Measures Did the State Submit?

a. Statewide Portable Fuel Container Rule

The TCEQ adopted regulations for portable fuel containers sold in Texas and EPA approved the rule, published February 10, 2005 (70 FR 7041). This will lower VOC emissions from portable fuel containers by an estimated 2.79 tpd within the nine-county nonattainment area and 0.63 tpd for counties outside of, but within a 100 km radius, of the nine-county area. As discussed earlier, the 5% guidance allows a nonattainment area to include VOC sources within 100 km of the nonattainment area in calculations of IOP reductions. There are 34 counties outside of the DFW 9-county area, that fall within 100 km of the nonattainment area. The VOC emissions from portable fuel containers within these 34 counties are added to the DFW area's EI, as required by the guidance; these emissions are 4.52 tpd. The 2002 baseline EI for VOCs is 459.15 tpd; with the portable fuel container emissions, the 2002 EI for VOCs is adjusted to 463.67 tpd. The total VOC emission reductions for 2007 are projected to be 3.42 tpd. Additional detail is provided in 70 FR 7041 and the TSD for this action.

b. Surface Coating Operations

Various rules for surface coating operations have been in effect for the four core counties in DFW, to meet 1-hour ozone nonattainment requirements. The State adopted a rule extending the requirements for surface coatings to the five newly designated 8-hour nonattainment counties. In a separate action, we approved Texas' SIP revision to extend the requirements for surface coatings to the five newly designated nonattainment counties, published January 19, 2006 (71 FR 3009). This will result in additional VOC reductions of 0.3 tpd for the area. Additional details are provided in 71 FR 3009 and the TSD for this action.

c. Stage I Vapor Recovery

Rules are in effect for Stage I vapor recovery during gasoline unloading operations in the four core counties, with an exemption for operations with a throughput equal to or less than 10,000 gallons per month (gpm). The State adopted a rule revision to extend these requirements, with the 10,000 gpm exemption, to the five newly designated nonattainment counties. In a separate action, we approved Texas' SIP revision to extend Stage I requirements to the five newly designated nonattainment counties, published January 19, 2006 (71 FR 3009). This measure will result in VOC reductions of 2.09 tpd. Additional details are provided in 71 FR 3009 and the TSD for this action.

C. Calculation of the 5% Reduction

EPA's 5% guidance allows the reduction to be made with all VOC emission reductions, all NOX reductions, or a combination of VOC and NOX reductions that equal 5%. Texas chose to meet the 5% requirement by applying on a combination of VOC and NOX reductions, as shown in Tables 7 and 8.

Table 7.—Sources of NOX and VOC Reductions for the DFW Area
Source of reductions | NOX (tpd) | VOC (tpd)
Eligible existing measures:
TERP | 22.2 |
Portable fuel containers (in DFW 9 county area) |  | 2.79
Portable fuel containers (within 100 km radius) |  | 0.63
Surface coating (expand to 5 new counties) |  | 0.3
Lower Stage I exemption to 10,000 gpm (expand to 5 new counties) |  | 2.09
Subtotal | 22.2 | 5.81
Proposed measures:
Alcoa (w/in 200 km radius) | 2.8 |
Energy Efficiency | 0.72 |
Stationary reciprocating IC engines (in 9 county area) | 1.87 |
Subtotal | 5.39 |
Total identified reductions (add subtotals) | 27.59 | 5.81

The reductions submitted for new VOC and NOX measures are acceptable, with the exception of the amounts for Alcoa. As discussed above, we reduced the Alcoa NOX credit from 3.9 tpd to 2.8 tpd.

Table 8.—Calculation of the Adjusted 2002 Emissions Inventory
Variables to calculate the adjusted EI | VOC (tpd) | NOX (tpd)
2002 baseline inventory | 459.15 | 599.02
Alcoa (within 200 km radius) |  | +23.20
Portable fuel containers (within 100 km radius) | +4.52
Adjusted 2002 baseline EI | 463.67 | 622.22

The 2002 baseline inventory is adjusted by adding the NOX emissions from Alcoa and VOC emissions from the portable fuel container rule. The adjusted baseline EI is the basis for performing the 5% reduction calculations. As shown in Table 8, the adjusted baseline inventory for VOC is 463.67 tpd and 622.22 tpd for NOX. The VOC control strategy reductions provide 5.81 tpd, which is 1.25% of the adjusted 2002 baseline for VOCs. The NOX reductions provide 27.59 tpd, which is 4.43% of the adjusted 2002 baseline for NOX. Per the 5% guidance, the sum of the percentage of the VOC reductions planned and the percentage of the NOX reductions planned must equal 5%. In this case, the sum of 1.25% + 4.43% = 5.68%, which meets the requirement and has a small surplus of 0.68%. Table 9 shows the 2007 target emission levels.

Table 9.—Calculation of 2007 Emission Levels, Adjusted to Meet the 5% Target
Variables to calculate the adjusted EI | VOC (tpd) | NOX (tpd)
2007 inventory | 405.05 | 450.71
Reductions proposed to meet 5% | −5.81 | −27.59
Adjusted 2007 emission levels | 399.24 | 423.12

Per EPA's 5% guidance, states should ensure that the projected 2007 EI is at least 5% less than the 2002 EI. When 5% is subtracted from each of the adjusted 2002 inventories, the emissions for VOCs are 440.49 tpd and emissions for NOX are 591.11 tpd. The 2007 target emission levels are lower (shown in Table 10) and therefore meet the 5% guidance. This SIP revision demonstrates that the target level will be met and Texas has met the 5% increment of emission reduction.

Table 10.—DFW Emission Reductions, From 2002 to 2007
Pollutant | Adjusted 2002 EI | Adjusted 2002 EI, minus 5% | Adjusted 2007 EI
VOC (tpd) | 463.67 | 440.49 | 399.24
NOX (tpd) | 622.22 | 591.11 | 423.12

Our analyses of the measures submitted and the calculation of reductions indicate that the State has satisfied the requirements of the 5% Increment of Progress Plan.

V. Proposed Action

We are proposing to approve revisions to the SIP submitted by the State of Texas for the DFW nonattainment area as meeting 1-hour ozone serious area requirements. We are proposing to approve the 5% IOP plan, the revisions to the 2002 base year emissions inventory, the 2007 motor vehicle emissions budget, a Federal consent decree concerning an Alcoa plant in Rockdale, Milam County, energy efficiency measures, and revisions to 30 TAC, Chapter 117, Control of Air Pollution From Nitrogen Compounds, concerning stationary reciprocating IC engines operating within the DFW 8-hour ozone nonattainment area and incorporate these revisions into the Texas SIP. Although we are not reopening the comment period on RACT, we intend to finalize our proposed approval that RACT is in place for all major sources of VOCs in the DFW area in the final rulemaking for this proposal. We have evaluated these revisions and determined that they are consistent with the requirements of the Act and EPA's regulations, guidance and policy. These revisions fulfill the outstanding attainment demonstration obligation for the 1-hour ozone standard in the DFW nonattainment area and the outstanding obligation to adopt and implement all applicable requirements under the 1-hour ozone standard. We propose to approve these rules under section 110 and part D of the Act and EPA's regulations.

EPA is soliciting public comments on the issues discussed in this proposed rulemaking. These comments will be considered before EPA takes final action. Interested parties may participate in the Federal rulemaking procedure by submitting written comments to the EPA Regional Office listed in the ADDRESSES section of this proposed rulemaking, or by submitting comments electronically, by mail, or through hand delivery/courier following the directions provided in the ADDRESSES section of this action.

VI. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a State rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Nitrogen dioxide, Ozone, Volatile Organic Compounds, Intergovernmental relations, Reporting and record keeping requirements.

Authority: 42 U.S.C. 7401 et seq.

Dated: August 10, 2006.
Richard E. Greene,
Regional Administrator, Region 6.

[FR Doc. E6-13866 Filed 8-21-06; 8:45 am]

BILLING CODE 6560-50-P